DEPARTMENT OF LABOR

Employment and Training Administration

Workforce Investment Act; Migrant and Seasonal Farmworker Employment and Training Advisory Committee: Notice of Meeting

Pursuant to section 10(a)(2) of the Federal Advisory Committee Act (Public Law 92-463) as amended, notice is hereby given of the scheduled meeting of the Migrant and Seasonal Farmworker Employment and Training Advisory Committee.

TIME AND DATE: The meeting will begin at 9 a.m. on September 18, 2000, and continue until approximately 4:30 p.m., and will reconvene at 9 a.m. on September 19, 2000, and adjourn at close of business that day. Time is reserved from 1 to 2:30 p.m. on September 18, 2000 for participation and presentations by members of the public.

PLACE: U.S. Department of Labor, Frances Perkins Building, 200 Constitution Avenue, NW, Conference Room 4-5521, Washington, DC.

STATUS: The meeting with be open to the public. Persons will disabilities, who need special accommodations should contact the telephone number provided below no less than ten days before the meeting.

MATTERS TO BE CONSIDERED: The agenda will focus on the following topics:

Brief report of meeting of May 4 & 5, 2000

Public Comment Session

Child Labor Demonstration Pilot Presentations

Review of Final Workforce Investment Act Regulations

Adoption of Strategic Plan for Advisory Committee

Adoption of Annual Report to the Secretary of Labor

FOR FURTHER INFORMATION CONTACT: Alicia Fernandez-Mott, Chief, Division of Migrant and Seasonal Farmworker Programs, Office of National Programs, Employment and Training Administration, Room N-4641, 200 Constitution Ave., NW, Washington, DC 20210. Telephone: (202) 219-5500.

Signed at Washington, DC, this 7th day of August, 2000.
James Deluca,
Acting Director, Office of National Programs, Employment and Training Administration.

[FR Doc. 00-20816 Filed 8-15-00; 8:45 am]

BILLING CODE 4510-30-M